ENVIRONMENTAL PROTECTION AGENCY

[ER-FRL-6696-9]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in Federal Register dated April 6, 2007 (72 FR 17156).

Draft EISs

EIS No. 20070452, ERP No. D-BLM-J65496-CO, Canyons of the Ancients National Monument Resource Management Plan, To Address Future Management Options for Approximately 165.00 Acres of Land, Dolores and Montezuma Counties, CO.

Summary: EPA does not object to the preferred alternative. Rating: LO.

EIS No. 20070497, ERP No. D-FAA-K51043-CA, Horizon Air Service to Mammoth Yosemite Airport Project, Proposed Operations Specifications Amendment to Provide Scheduled Air Service, Town of Mammoth Lakes, Mono County, CA.

Summary: EPA does not object to the proposed action. Rating: LO.

EIS No. 20070523, ERP No. D-NRC-E06025-NC, Generic—License Renewal of Nuclear Plants (GEIS) Regarding Shearon Harris Nuclear Power Plant, Unit 1, Plant-Specific Supplement 33 to NUREG-1437, Wake County, NC.

Summary: EPA expressed environmental concerns about water withdrawal impacts to surface water under exceptional drought conditions, and requested radiological monitoring of all plant effluents, and appropriate storage and disposition of radioactive waste. Rating: EC1.

EIS No. 20080006, ERP No. D-FHW-H40192-NE, Nebraska Highway 35 (N-35) Corridor, To Improve 66-mile from Norfolk to South Sioux City, Funding, Madison, Stanton, Wayne, Dixon, and Dakota Counties, NE.

Summary: EPA expressed environmental concern about impacts on two impaired steams, and the cumulative impacts of induced residential development, and recommended that noise attenuation measures other than structural be examined. Rating: EC2.

EIS No. 20080013, ERP No. D-AFS-G65107-NM, Santa Fe National Forest Project, Settlement Land Transfers: Pueblo de San Ildefonso, Pueblo of Santa Clara and Los Alamos County, Implementation, Santa Fe National Forest, Los Alamos, Rio Arriba and Santa Fe Counties, NM.

Summary: EPA does not object to the proposed action. Rating: LO.

EIS No. 20080016, ERP No. D-FHW-L40233-ID, Three Cities River Crossing Project, New Roadway Crossing of the Boise River at the Juncture of the Cities of Boise, Eagle and Garden, Ada County Highway District (ACHD), Ada County, ID.

Summary: EPA expressed environmental concerns about air quality, including ozone, particulate matter, air toxics, wetlands, aquatic resources, floodplains, water quality and stormwater management, and the need to mitigate these impacts. Rating: EC2.

EIS No. 20080018, ERP No. D-FHW-K40267-CA, Phase I—CA 11 Corridor Location and Route Adoption and Location Identification of the Otay Mesa East Port of Entry (POE) on Otay Mesa, Presidential Permit for the POE and Acquisition of Right-Of-Way Permit, San Diego County, CA.

Summary: EPA expressed environmental concerns about air quality impacts associated with idling trucks and mobile source air toxics and cumulative impacts to multiple resources, and recommended completing a full cumulative impact analysis, addressing mobile source air toxics and committing to anti-idling methods. Rating: EC2.

EIS No. 20070541, ERP No. DS-NOA-L91011-AK, Cook Inlet Beluga Whale Subsistence Harvest Project, Proposes to Implement a Long-Term Harvest Plan and Fulfill the Federal Government's Trust Responsibility, Cook Inlet, AK.

Summary: EPA does not object to the proposed project. Rating: LO.

Final EISs

EIS No. 20070415, ERP No. F-AFS-J65435-UT, Ogden Ranger District Travel Plan Revision, To Present Additional Analysis for Six Alternatives, Wasatch-Cache National Forest, Ogden Ranger District, Box Elder, Cache, Morgan, Weber and Rich Counties, UT.

Summary: EPA continues to have environmental concerns about impacts from trails needing maintenance and that new trails may not receive sufficient upkeep.

EIS No. 20070539, ERP No. F-SFW-K39015-CA, PROGRAMMATIC—South Bay Salt Pond Restoration Project, Restored Tidal Marsh, Managed Ponds, Flood Control Measures and Public Access Features, Don Edward San Francisco Bay National Wildlife Refuge, Alameda, Santa Clara and San Mateo Counties, CA.

Summary: The Final PEIS addressed EPA's previous concerns; therefore, EPA does not object to the proposed action.

EIS No. 20080009, ERP No. F-AFS-J65465-WY, Lower Valley Energy (LVE) Natural Gas Pipeline Project, Construction and Operation of a Pressurized Natural Gas Pipeline, Special-Use-Authorization, Big Piney and Jackson Ranger Districts, Bridger-Teton National Forest, Sublette and Teton Counties, WY.

Summary: No formal comment letter was sent to the preparing agency.

EIS No. 20080030, ERP No. F-BLM-J65455-MT, Upper Missouri River Breaks National Monument Resource Management Plan, Implementation, Blaine, Chouteau, Fergus and Phillips Counties, MT.

Summary: EPA continues to have environmental concerns about impacts to water quality and aquatic resources from road density, cumulative effects and the adequacy of resources available for monitoring and adaptive management and for travel management enforcement.

Dated: March 11, 2008.
Robert W. Hargrove,
Director, NEPA Compliance Division, Office of Federal Activities.

[FR Doc. E8-5183 Filed 3-13-08; 8:45 am]

BILLING CODE 6560-50-P